DEPARTMENT OF AGRICULTURE

Submission for OMB Review; Comment Request

August 16, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Nursery and Christmas Tree Production Survey and Nursery and Floriculture Chemical Use Survey.

OMB Control Number: 0535-0244.

Summary of Collection: The National Agricultural Statistics Service (NASS) is charged with the responsibility of providing reliable, up-to-date information concerning the Nation's crop and livestock production, prices, and disposition, as well as environmental statistics. This includes estimates of production and value of key nursery products and chemical use by nursery and floriculture production operations. Congress appropriated funds for the collection of pesticide use data on nursery and floriculture operations. This data will expand the existing NASS pesticide database that contains comprehensive annual pesticide use reports. NASS will collect the information using surveys. The authority for these data collection activities is granted under U.S. Code Title 7, Section 2204.

Need and Use of the Information: Nursery and Christmas tree production data and nursery and floriculture chemical use data will be used by NASS, the Environmental Protection Agency, the nursery and floriculture industries, and other parties to assess the environmental and economic impact of various programs, policies, and procedures on nursery and floriculture operators and workers. The basic chemical use and farm practices information also will be used to enhance the national chemical use database maintained by NASS. This database is an integral source of data necessary for on-going risk assessments related to dietary exposure to chemicals, worker safety, water quality, and ecological resources.

Description of Respondents: Farms; Business or other for-profit.

Number of Respondents: 37,288.

Frequency of Responses: Reporting: Triennial.

Total Burden Hours: 3,807.

Charlene Parker,
Departmental Information Collection Clearance Officer.

[FR Doc. E7-16435 Filed 8-20-07; 8:45 am]

BILLING CODE 3410-20-P